DEPARTMENT OF COMMERCE

National Oceanic and Atmospheric Administration

[I.D. 061803H]

Proposed Information Collection; Comment Request; Economic Data for U.S. Commercial Fisheries

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 25, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Rita Curtis, Department of Commerce, NOAA, National Marine Fisheries Service, 1315 East West Highway, #12752, Silver Spring, MD 20910 (301-713-2328).

SUPPLEMENTARY INFORMATION:

I. Abstract

Economic data for selected U.S. commercial fisheries will be collected for each of the following groups of operations: (1) processors, including onshore plants, mothership vessels, and at-sea catcher/processor vessels; (2) catcher vessels; and (3) charter vessels. Companies associated with these groups will be surveyed for expenditure, earnings, and employment data; and for basic demographic data on fishing and processing crews.

In general, questions will be asked concerning ex-vessel and wholesale prices and revenue, variable and fixed costs, expenditures, dependence on the fisheries, and fishery employment. The data collection efforts will be coordinated to reduce the additional burden for those who participate in multiple fisheries. Participation in these data collections will be voluntary.

The data will be used for the following three purposes: (1) to monitor the economic performance of these fisheries through primary processing; (2) to analyze the economic performance effects of current management measures; and (3) to analyze the economic performance effects of alternative management measures. The measures of economic performance to be supported by this data collection program include the following: (1) contribution to net national benefit; (2) contribution to income of groups of participants in the fisheries (i.e., fishermen, vessel owners, processing plant employees, and processing plant owners); (3) employment; (4) regional economic impacts (income and employment); and (5) factor utilizations rates. As required by law, the confidentiality of the data will be protected.

A two-prong approach to data collection will be adopted. In the majority of fisheries, data collections will focus each year on a different component of the U.S. commercial fisheries, with only limited data collected in previously-surveyed components of these fisheries. The latter will be done to update the models that will be used to track economic performance and to evaluate the economic effects of alternative management actions. This cycle of data collection will result in economic performance data being available and updated for all the components of the U.S. commercial fisheries identified above.

In a limited number of fisheries, the approach adopted will result in an ongoing economic data collection program. Economic data collection programs will only be initiated in a) high-profile fisheries with significant seasonal variation; and b) fisheries with an existing data collection program to which economic questions can be appended. Examples of the latter include appending trip-specific economic questions to observer and logbook programs survey vehicles. The number of questions asked under an economic data collection program will be far more limited than those asked in a one-time survey, which have estimated average response times of approximately 10 minutes and two hours, respectively.

Contingent upon OMB approval of this proposed data collection, voluntary surveys currently being conducted under “Economic Performance Data for the West Coast (California-Alaska) Commercial Fisheries” (OMB Number 0648-0369) will be covered under this national umbrella.

II. Method of Collection

Data will be collected from a sample of the owners and operators of catcher vessels, catcher/processors, on-shore processing plants, motherships, and charter vessels that participate in these fisheries. In the majority of fisheries, data collection will involve mailing questionnaires to the selected members of each of the different survey groups. In many cases, individuals may receive the questionnaire in advance to allow them to prepare their response but may be interviewed to ensure the clarity of their responses. In those fisheries in which economic questions are appended to an existing program, respondents will be requested to return the completed form along with their regular submission, as appropriate. To the extent practicable, the data collected will consist of data that the respondents maintain for their own business purposes. Therefore, the collection burden will consist principally of transcribing data from their internal records to the survey instrument and participating in personal interviews. In addition, current data reporting requirements will be evaluated to determine if they can be modified to provide improved economic data at a lower cost to the Agency and with reduced burden on potential respondents. Similarly, it will be determined if some of these data can be collected more effectively and efficiently from the firms that provide bookkeeping and accounting services to potential respondents. This data collection method would be used only after obtaining permission to do so from participants in the fisheries.

III. Data

OMB Number: None.

Form Number: None.

Type of Review: Regular submission.

Affected Public: Business or other for-profit organizations.

Estimated Number of Respondents: 7,400.

Estimated Time Per Response: 1-2 hours for a response from a catcher vessel (burden estimation calculated using 1.5 hours per response); 1 hour for a response from a charter vessel; 8 hours for a response from a West Coast or Alaska processor, including factory trawlers, motherships and on-shore primary plants processor; 1-2 hours for a response from an East Coast or Gulf processor (burden estimation calculated using 1.5 hours per response); 10 minutes per response to a single trip form; and 20 minutes per response for an annual expenditure form.

Estimated Total Annual Burden Hours: 7,850.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 17, 2003.
Gwellnar Banks,
Management Analyst, Office of the Chief Information Officer.

[FR Doc. 03-15949 Filed 6-23-03; 8:45 am]

BILLING CODE 3510-22-S